DEPARTMENT OF JUSTICE

Notice of Lodging of Proposed Modification to Consent Decree Under the Clean Air Act

On July 22, 2015, the Department of Justice lodged a proposed modification to a Consent Decree with the United States District Court for the Eastern District of California in the lawsuit entitled United States v. CalPortland Company, Civil Action No. 1:11-cv-02064-AWI-JLT. The Consent Decree was entered in February 2012.

The original Consent Decree resolves alleged Clean Air Act New Source Review violations at a cement plant owned and operated by CalPortland Company (“CalPortland”) and located in Mojave, Kern County, California. The Consent Decree requires CalPortland to propose for EPA approval final emission limits for carbon monoxide, nitrogen oxides, and sulfur dioxide that are achievable based on the plant's operation with newly-installed control technology. Under the original Consent Decree, the final emission limit for SO2 cannot exceed 1.7 pounds of SO2 per ton of clinker on a 30-Day Rolling Average. The proposed modification would lengthen the averaging period for the maximum SO2 emission rate from 30 days to 90 days. The need for a 90-day averaging period is related to variability in the sulfur content of the limestone in CalPortland's quarry and is based on data collected by CalPortland and reviewed by EPA to determine an achievable emission rate. The proposed modification also adjusts the calculation method for stipulated penalties related to emission violations in order to reflect the modified averaging period.

The publication of this notice opens a period for public comment on the proposed modifications to the Consent Decree. Comments should be addressed to the Assistant Attorney General, Environment and Natural Resources Division, and should refer to United States v. CalPortland Company, D.J. Ref. No. 90-5-2-1-08306/2. All comments must be submitted no later than thirty (30) days after the publication date of this notice. Comments may be submitted either by email or by mail:

To submit comments: | Send them to:
By email | pubcomment-ees.enrd@usdoj.gov
By mail | Assistant Attorney General U.S. DOJ—ENRD P.O. Box 7611 Washington, DC 20044-7611

During the public comment period, the Modification to Consent Decree may be examined and downloaded at this Justice Department Web site: http://www.justice.gov/enrd/consent-decrees. We will provide a paper copy of the Modification to Consent Decree upon written request and payment of reproduction costs. Please mail your request and payment to: Consent Decree Library, U.S. DOJ—ENRD,P.O. Box 7611,Washington, DC 20044-7611.

Please enclose a check or money order for $2.50 (25 cents per page reproduction cost) payable to the United States Treasury.

Henry Friedman,
Assistant Section Chief, Environmental Enforcement Section, Environment and Natural Resources Division.

[FR Doc. 2015-18369 Filed 7-27-15; 8:45 am]

BILLING CODE 4410-15-P